DEPARTMENT OF HEALTH AND HUMAN SERVICES

Centers for Disease Control and Prevention

Fees for Sanitation Inspections of Cruise Ships

AGENCY: Centers for Disease Control and Prevention (CDC), Department of Health and Human Services (HHS).

ACTION: Notice.

SUMMARY: This notice announces fees for vessel sanitation inspections for fiscal year 2005 (October 1, 2004, through September 30, 2005).

EFFECTIVE DATE: October 1, 2004.

FOR FURTHER INFORMATION CONTACT: David L. Forney, Chief, Vessel Sanitation Program, National Center for Environmental Health, Centers for Disease Control and Prevention (CDC), 4770 Buford Highway, NE., Mailstop F-23, Atlanta, Georgia 30341-3724, telephone (770) 488-7333, e-mail: Dforney@cdc.gov.

SUPPLEMENTARY INFORMATION:

Purpose and Background

The fee schedule for sanitation inspections of passenger cruise ships inspected under the Vessel Sanitation Program (VSP) was first published in the Federal Register on November 24, 1987 (52 FR 45019), and CDC began collecting fees on March 1, 1988. Since then, CDC has published the fee schedule annually. This notice announces fees effective October 1, 2004.

The formula used to determine the fees is as follows: Average cost per inspection = Total cost of VSP divided by the Weighted number of annual inspections.

The average cost per inspection is multiplied by a size/cost factor to determine the fee for vessels in each size category. The size/cost factor was established in the proposed fee schedule published in the Federal Register on July 17, 1987 (52 FR 27060), and revised in a schedule published in the Federal Register on November 28, 1989 (54 FR 48942). The revised size/cost factor is presented in Appendix A.

Fee

The fee schedule (Appendix A) will be effective October 1, 2004, through September 30, 2005. The fee schedule, which became effective October 1, 2001, will remain the same in Fiscal Year 2005. If travel expenses continue to increase, the fees may need adjustment before September 30, 2005, because travel constitutes a sizable portion of VSP's costs. If an adjustment is necessary, a notice will be published in the Federal Register 30 days before the effective date.

Applicability

The fees will apply to all passenger cruise vessels for which inspections are conducted as part of CDC's VSP.

Dated: August 23, 2004.
James D. Seligman,
Associate Director for Program Services, Centers for Disease Control and Prevention (CDC).

Appendix A

Size/Cost Factor
Vessel size | GRT ¹ | Average cost ($U.S.) per GRT
Extra Small | <3,001 | 0.25
Small | 3,001-15,000 | 0.50
Medium | 15,001-30,000 | 1.00
Large | 30,001-60,000 | 1.50
Extra Large | >60,000 | 2.00
¹ Gross register tonnage in cubic feet, as shown in Lloyd's Register of Shipping.

Fee Schedule October 1, 2004—September 30, 2005
Vessel size | GRT ¹ | Fee
Extra Small | <3,001 | 1,150
Small | 3,001-15,000 | 2,300
Medium | 15,001-30,000 | 4,600
Large | 30,001-60,000 | 6,900
Extra Large> 60,000 9,200
¹ Gross register tonnage in cubic feet, as shown in Lloyd's Register of Shipping.

Inspections and reinspections involve the same procedure, require the same amount of time, and are therefore charged at the same rate.

[FR Doc. 04-19703 Filed 8-27-04; 8:45 am]

BILLING CODE 4163-18-P